DEPARTMENT OF ENERGY

Federal Energy Regulatory Commission

[Docket No. RP00-478-001]

Honeoye Storage Corporation; Notice of Compliance Filing

May 2, 2002.

Take notice that on April 29, 2002 Honeoye Storage Corporation (Honeoye) tendered for filing as part of its FERC Gas Tariff, First Revised Volume 1A, revised tariff sheets to be effective June 1, 2002. The revised tariff sheets are designated as:

First Revised Sheet No. 15 Superseding Original Sheet No. 15 Original Sheet No. 15A

First Revised Sheet No. 18 Superseding Original Sheet No. 18

First Revised Sheet No. 19 Superseding Original Sheet No. 19

First Revised Sheet No. 22 Superseding Original Sheet No. 22

First Revised Sheet No. 23 Superseding Original Sheet No. 23

First Revised Sheet No. 27 Superseding Original Sheet No. 27

First Revised Sheet No. 96 Superseding Original Sheet No. 96 Original Sheet No. 96A

First Revised Sheet No. 106 Superseding Original Sheet No. 106

Original Sheet No. 106A

Original Sheet No. 106B

First Revised Sheet No. 107 Superseding Original Sheet No. 107

Honeoye states that the purpose of the filing is to substitute certain tariff sheets which comply with the Commission's Order issued March 29, 2002 in Docket Nos. RP00-478-000 and RP00-574-000, the Commission proceedings in which Honeoye's compliance with Order Nos. 637,587-G and 586-L is at issue. Honeoye states that there will be no change in rates and revenues under the proposed revisions.

Honeoye states that copies of the filing are being mailed to Honeoye's jurisdictional customers and interested state regulatory agencies.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11413 Filed 5-7-02; 8:45 am]

BILLING CODE 6717-01-P